DEPARTMENT OF TRANSPORTATION

Maritime Administration

[Docket Number MARAD-2000-8060]

Requested Administrative Waiver of the Coastwise Trade Laws

AGENCY: Maritime Administration, Department of Transportation.

ACTION: Invitation for public comments on a requested administrative waiver of the Coastwise Trade Laws for the vessel Challenge Business 32.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR Part 388 (65 FR 6905; February 11, 2000) that the issuance of the waiver will have an unduly adverse effect on a U.S.-vessel builder or a business that uses U.S.-flag vessels, a waiver will not be granted.

DATES: Submit comments on or before November 13, 2000.

ADDRESSES: Comments should refer to docket number MARAD-2000-8060. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Gordon Angell, U.S. Department of Transportation, Maritime Administration, MAR-832 Room 7201, 400 Seventh Street, S.W., Washington, DC 20590. Telephone 202-366-5129.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR § 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR Part 388.

Vessel Proposed for Waiver of the U.S.-Build Requirement

(1) Name of vessel and owner for which waiver is requested.

Name of vessel: Challenge Business 32. Owner: Challenge Business International, Ltd.

(2) Size, capacity and tonnage of vessel. According to the applicant: “The yacht is 66.24′ long, has a breadth of 17.32′ and a depth of 8.6′. Under our Simplified Measurement Rules, (46 C.F.R. Part 69), the yacht has a gross tonnage of 49.33 and a net tonnage of 44.40″.”

(3) Intended use for vessel, including geographic region of intended operation and trade. According to the applicant: “The yacht will be used to generate interest in a race called the New World Challenge. In that race, ordinary people, from all walks of life, often with little or no sailing experience, will become members of the crew. They will sail on 10 newer, slightly larger boats that will depart from San Francisco and sail to Japan, Hong Kong, Singapore, Cape Town, Buenos Aires, Cape Horn, and back to San Francisco. The interest, love and excitement of sailing such boats, in difficult conditions, over a period of approximately 10 months, will be supported by a number of corporate sponsors who expect to benefit from the team building aspect of the race and the publicity that the race will generate. In addition, a selected charity will receive approximately $1,000,000.00.” “This yacht will be based in San Francisco, and may be sailed on San Francisco Bay and anywhere between the areas of Southern California and Vancouver, British Colombia.”

(4) Date and Place of construction and (if applicable) rebuilding. Date of construction: 1996. Place of construction: United Kingdom.

(5) A statement on the impact this waiver will have on other commercial passenger vessel operators. According to the applicant: “This activity will have absolutely no impact on any existing commercial passenger operation. The yacht we propose to use has been sailed in another race organized by Challenge Business. This yacht is very similar in size, design, living accommodations, communications capability, sail area, equipment, handling characteristics, etc. to the 10 boats that will be competing in the race. Thus, it is the most representative, “experienced”, boat that could be used for the intended purposes. No existing commercially operated yacht can duplicate the feel, characteristics and overall experience of sailing in the New World Challenge race.”

(6) A statement on the impact this waiver will have on U.S. shipyards. According to the applicant: “Similarly, the proposed activity will have absolutely no impact on U.S. shipyards. This yacht is uniquely valuable in that it has been raced under similar conditions, in a similar race while manned by individuals who had little, if any, sailing experience before sailing aboard such a yacht. This yacht most accurately represents the look, feel and impact that the 10 yachts in the race will have on the sailors, media, press, sponsors and supporters. Given its historical connection to a similar race, no newly built U.S. yacht could preform (sic) the same role. Further, we are not aware of any similar yachts currently under construction in the U.S.”

Dated: October 4, 2000.
By Order of the Maritime Administrator.
Joel C. Richard,
Secretary, Maritime Administration.

[FR Doc. 00-25995 Filed 10-10-00; 8:45 am]

BILLING CODE 4910-81-P